DEPARTMENT OF ENERGY

Federal Energy Regulatory Commission

[Docket No. EC04-124-000, et al.]

Boston Generating, LLC, et al.; Electric Rate and Corporate Filings

June 25, 2004.

The following filings have been made with the Commission. The filings are listed in ascending order within each docket classification.

1. Boston Generating, LLC, Tyr Energy, LLC, Exelon Boston Services, LLC, Exelon New England Power Services, Inc., Exelon New England Power Marketing, and Limited Partnership

[Docket No. EC04-124-000]

Take notice that on June 24, 2004, pursuant to section 203 of the Federal Power Act (FPA), Boston Generating, LLC, Tyr Energy, LLC, Exelon Boston Services, LLC, Exelon New England Power Services, Inc., and Exelon New England Power Marketing, Limited Partnership (the latter three, collectively the Exelon Entities), filed an application requesting authorization for the disposition of jurisdictional assets due to the proposed transfer of the operations and maintenance and power marketing responsibilities for three Boston Generating, LLC publicly-owned utility companies—Mystic I, LLC, Mystic Development, LLC and Fore River Development, LLC.

Comment Date: July 15, 2004.

2. Central Hudson Gas & Electric Corporation, LIPA, New York Power Authority, New York State Electric & Gas Corporation, Niagara Mohawk Power Corporation, Rochester Gas and Electric Corporation v. New York Independent System Operator, Inc.

[Docket No. EL04-113-000]

Take notice that on June 24, 2004, Central Hudson Gas & Electric Corporation; New York Power Authority; Long Island Power Authority and its operating subsidiary LIPA; New York State Electric & Gas Corporation; Niagara Mohawk Power Corporation, a National Grid company; and Rochester Gas & Electric Corporation (collectively, Complainants) filed a complaint, pursuant to section 206 of the Federal Power Act and rule 206 of the Commission's regulations, against the New York System Independent System Operator (NYISO) concerning the NYISO's administration of its Transmission Congestion Contract (TCC) authority. Complainants seek historic and prospective relief from the NYISO's alleged past and ongoing tariff violations regarding TCCs. The Complainants request Fast Track processing for the complaint.

Complainants state that they served a copy of the filing by overnight mail and by e-mail on the respondent and the New York State Public Service Commission. In addition, Complainants state that they have also served a copy of the Complaint on all parties on the Commission's official service list in Docket No. EL04-110-000, a related proceeding, by overnight mail.

Comment Date: July 14, 2004.

3. Consolidated Edison Energy Massachusetts, Inc.

[Docket No. ER99-3248-004]

Take notice that on June 23, 2004, Consolidated Edison Energy Massachusetts, Inc. (CEEMI), submitted for filing amending its Tariff for the Wholesale Sale of Electricity at Market-Based Rates (Tariff) to include the Market Behavior Rules promulgated by the Commission, Investigation of Terms and Conditions of Public Utility Market-Based Rate Authorizations, 105 FERC ¶ 61,218 (2003). CEEMI states that the Tariff has also been revised to provide for transmission service pursuant to either the open access transmission tariff of an affiliate or the affected Independent System Operator or Regional Transmission Operator.

Comment Date: July 17, 2004.

4. Newington Energy, L.L.C.

[Docket No. ER01-1526-002]

Take notice that on June 23, 2004, Newington Energy, L.L.C. (Newington) submitted a filing amending its Tariff for the Wholesale Sale of Electricity at Market-Based Rates to include the Market Behavior Rules promulgated by the Commission, Investigation of Terms and Conditions of Public Utility Market-Based Rate Authorizations, 105 FERC ¶ 61,218 (2003). Newington states that the tariff has also been revised to replace a reference to the Consolidated Edison Company of New York Inc. Open Access Transmission Tariff (OATT) with the applicable OATT of either the Independent System Operator or the Regional Transmission Operator.

Comment Date: July 14, 2004.

5. Entergy Services, Inc. Generator Coalition v. Entergy Services, Inc.

[Docket Nos. ER01-2201-006 and EL02-46-005]

Take notice that on June 22, 2004, Entergy Services, Inc. (Entergy) filed a refund report relating to refunds ordered by the Commission in an order issued April 16, 2004, 107 FERC ¶ 61,035 (2004).

Entergy states that a copy of this filing has been served upon International Paper and the respective State commissions.

Comment Date: July 13, 2004.

6. Southern California Edison Company

[Docket Nos. ER04-667-001 and 002]

Take notice that on June 15, 2004, as amended on June 22, 2004, Southern California Edison Company submitted partial compliance filings pursuant to the Commission's order issued May 21, 2004, in Docket Nos. EL03-228-000 and ER04-667-000, 107 FERC ¶ 61,179.

Comment Date: July 13, 2004.

7. Midwest Independent Transmission System Operator, Inc.

[Docket No. ER04-779-001]

Take notice that on June 22, 2004, the Midwest Independent Transmission System Operator, Inc., (Midwest ISO) on behalf of the Midwest ISO Transmission Owners, including certain of the Midwest Stand Alone Transmission Companies, GridAmerica LLC, and the GridAmerica Companies, filed a response to the Commission's deficiency letter issued June 15, 2004, regarding the April 29, 2004, filing by Midwest ISO, et al., in Docket No. ER04-779-000.

Comment Date: July 13, 2004.

8. POSDEF Power Company, LP

[Docket No. ER04-947-000]

Take notice that on June 22, 2004, POSDEF Power Company, LP submitted for filing an application pursuant to section 205 of the Federal Power Act for authorization to sell energy, capacity, and ancillary services at market-based rates.

Comment Date: July 13, 2004.

9. The Detroit Edison Company, DTE East China, LLC, DTE River Rouge No. 1, LLC

[Docket No. ER04-948-000]

Take notice that on June 22, 2004, the Detroit Edison Company (Detroit Edison), DTE East China, LLC (East China) and DTE River Rouge No. 1, LLC (Rouge 1), (collectively, Applicants) submitted for filing, pursuant to section 205 of the Federal Power Act, an application requesting authorization for Detroit Edison to engage in limited, short-term purchases of power from East China and Rouge 1 during the summer 2004 season. Applicants request an effective date of June 23, 2004.

Applicants state that a copy of the application was served upon the Michigan Public Service Commission.

Comment Date: July 2, 2004.

10. Pacific Gas and Electric Company

[Docket No. ER04-949-000]

Take notice that on June 23, 2004, Pacific Gas and Electric Company (PG&E) tendered for filing the System Bulk Power Sale and Purchase Agreement (Bulk Power Agreement) by and between PG&E and the City of Santa Clara, California, also known as Silicon Valley Power (SVP); revisions to Appendix A of the Bulk Power Agreement to change the energy rate for three periods effective April 1, 1999, 2000 and 2001; and a Notice of Termination First Revised PG&E Rate Schedule No. 108.

PG&E states that copies of the filing were served upon SVP, the California Independent System Operator Corporation and the California Public Utilities Commission.

Comment Date: July 14, 2004.

11. Midwest Independent Transmission System Operator, Inc.

[Docket No. ER04-950-000]

Take notice that on June 23, 2004, Midwest Independent Transmission System Operator, Inc. (Midwest ISO) pursuant to section 205 of the Federal Power Act and section 35.12 of the Commission's regulations, 18 CFR 35.12 (2003), submitted for filing an Interconnection and Operating Agreement among Minnesota Municipal Power Agency, the Midwest ISO and Northern States Power Company d/b/a Xcel Energy. Midwest ISO requests an effective date of June 9, 2004.

Midwest ISO states that a copy of this filing was served on all parties.

Comment Date: July 14, 2004.

12. Midwest Independent Transmission System Operator, Inc.

[Docket No. ER04-951-000]

Take notice that on June 23, 2004, Midwest Independent Transmission System Operator, Inc. (Midwest ISO) submitted for filing a Second Revised Interconnection and Operating Agreement among Valley Queen Cheese Factory, Inc., the Midwest ISO and Otter Tail Power Company. Midwest ISO states that the fully executed Second Revised Interconnection Agreement replaces the previously filed unexecuted Interconnection Agreement. Midwest ISO requests an effective date of June 1, 2004.

Midwest ISO states that a copy of this filing was served on all parties.

Comment Date: July 14, 2004.

13. ISO New England Inc., et al., Bangor Hydro-Electric Company, et al., the Consumers of New England v. New England Power Pool

[Docket Nos. RT04-2-002, ER04-116-002, ER04-157-005, and EL01-39-002]

Take notice that on June 22, 2004, ISO New England Inc. (ISO), and the New England transmission owners (consisting of Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; the United Illuminating Company; Vermont Electric Power Company, Inc.; Fitchburg Gas and Electric Light Company; and Unitil Energy Services, Inc. (collectively New England TOs) submitted for filing a report in compliance with the Commission's order issued March 24, 2004, in Docket Nos. RT04-2-000, et al., 106 FERC ¶ 61,280 (2004).

The ISO and the New England TOs state that copies of the filing have been served upon all parties to this proceeding, the NEPOOL Participants (electronically), non-Participant Transmission Customers, and the governors and regulatory agencies of the six New England states.

Comment Date: July 13, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-1485 Filed 7-6-04; 8:45 am]

BILLING CODE 6717-01-P